DEPARTMENT OF TRANSPORTATION

Office of the Secretary

Application of Alaska Central Express, Inc. for Certificate Authority

AGENCY: Department of Transportation.

ACTION: Notice of Order to Show Cause (Order 2011-2-4), Docket DOT-OST-1996-1657.

SUMMARY: The Department of Transportation is directing all interested persons to show cause why it should not issue an order finding Alaska Central Express, Inc., fit, willing, and able, and awarding it a certificate of public convenience and necessity to engage in interstate scheduled air transportation of persons, property and mail.

DATES: Persons wishing to file objections should do so no later than February 18, 2011.

ADDRESSES: Objections and answers to objections should be filed in Docket DOT-OST-1996-1657, and addressed to U.S. Department of Transportation, Docket Operations, 1200 New Jersey Avenue, SE., West Building Ground Floor, Rm. W12-140, Washington, DC 20590, and should be served upon the parties listed in Attachment A to the order.

FOR FURTHER INFORMATION CONTACT: Catherine O'Toole, Air Carrier Fitness Division (X-56), U.S. Department of Transportation, 1200 New Jersey Avenue, SE., Washington, DC 20590, (202) 366-9721.

Dated: February 4, 2011.
Susan L. Kurland,
Assistant Secretary for Aviation and International Affairs.

[FR Doc. 2011-3102 Filed 2-10-11; 8:45 am]

BILLING CODE P